SMALL BUSINESS ADMINISTRATION

[Disaster Declaration #20407 and #20408; NEW MEXICO Disaster Number NM-20004]

Presidential Declaration Amendment of a Major Disaster for the State of New Mexico

AGENCY: U.S. Small Business Administration.

ACTION: Amendment 4.

SUMMARY: This is an amendment of the Presidential declaration of a major disaster for the State of New Mexico (FEMA-4795-DR), dated June 20, 2024.

DATES: Issued on August 26, 2024.

Physical Loan Application Deadline Date: October 19, 2024.

Economic Injury (EIDL) Loan Application Deadline Date: March 20, 2025.

ADDRESSES: Visit the MySBA Loan Portal at https://lending.sba.gov to apply for a disaster assistance loan.

FOR FURTHER INFORMATION CONTACT: Vanessa Morgan, Office of Disaster Recovery & Resilience, U.S. Small Business Administration, 409 3rd Street SW, Suite 6050, Washington, DC 20416, (202) 205-6734.

SUPPLEMENTARY INFORMATION: The notice of the President's major disaster declaration for the State of New Mexico, dated June 20, 2024, is hereby amended to update the incident period for this disaster as beginning June 17, 2024 and continuing through August 20, 2024.

Incident: South Fork Fire, Salt Fire, and Flooding.

Incident Period: June 17, 2024 through August 20, 2024.

All other information in the original declaration remains unchanged.

(Catalog of Federal Domestic Assistance Number 59008)

Francisco Sánchez, Jr.,
Associate Administrator, Office of Disaster Recovery & Resilience.

[FR Doc. 2024-21666 Filed 9-20-24; 8:45 am]

BILLING CODE 8026-09-P